DEPARTMENT OF TRANSPORTATION

Federal Aviation Administration

Advisory Circular 25.856-2, Installation of Thermal/Acoustic Insulation for Burnthrough Protection

AGENCY: Federal Aviation Administration, DOT.

ACTION: Notice of issuance of advisory circular.

SUMMARY: This notice announces the issuance of Advisory Circular 25.856-2, “Installation of Thermal/Acoustic Insulation for Burnthrough Protection.” The advisory circular provides information and guidance regarding an acceptable means, but not the only means, of compliance with the portions of the airworthiness standards for transport category airplanes that deal with the installation of thermal/acoustic insulation.

DATES: AC 25.856-2 was issued by the FAA Transport Airplane Directorate in Renton, Washington, on January 17, 2006.

How To Obtain Copies: You can download a copy of advisory Circular 25.856-2 from the Internet at http://www.airweb.faa.gov/rgl. A paper copy will be available in approximately 6-8 weeks from the U.S. Department of Transportation, Subsequent Distribution Office, M-30, Ardmore East Business Center, 3341 Q 75th Avenue, Landover, MD 20795.

FOR FURTHER INFORMATION CONTACT: Kenna Sinclair, FAA Standardization Branch, ANM-113, Transport Airplane Directorate, 1601 Lind Avenue, SW., Renton, Washington 98055-4056; telephone (425) 227-1556; e-mail kenna.sinclair@faa.gov.

Issued in Renton, Washington, on January 17, 2006.
Ali Bahrami,
Manager, Transport Airplane Directorate, Aircraft Certification Service.

[FR Doc. 06-809 Filed 1-27-06; 8:45 am]

BILLING CODE 4910-13-M